DEPARTMENT OF HEALTH AND HUMAN SERVICES

Centers for Medicare and Medicaid Services

[CMS-2165-N]

Medicaid Program; Infrastructure Grant Program To Support the Competitive Employment of People With Disabilities

AGENCY: Centers for Medicare and Medicaid Services (CMS), HHS.

ACTION: Notice.

SUMMARY: This notice announces the availability of funding, through grants, for eligible States under section 203 of the Ticket to Work and Work Incentives Improvement Act of 1999 (TWIIA). The grant program is designed to assist States in developing infrastructures to support the competitive employment of people with disabilities by extending necessary Medicaid coverage to these individuals. This notice also contains pertinent information where States may apply for the grant program.

A total of $35 million has been appropriated by the legislation for the infrastructure grant program for fiscal year 2004. In addition, amounts that were appropriated under section 203 of TWWIIA for previous fiscal years but which were not awarded to States are available for these awards in 2004.

We expect to award approximately 50 grants. This includes new as well as continuation grants. Award amounts will be between $500,000 and $1.5 million. There is no State match or cost sharing associated with this grant solicitation. Criteria for evaluating these applications will be listed in the grant solicitation (Web site address listed below).

Who May Apply: State Agencies.

DATES: Deadline for Letter of Intent to Apply: States are encouraged to submit a notice of intent to apply for a grant no later than May 2, 2003. Submission of your letter of intent is optional and will not affect the approval of your application.

Date of Applicant's Teleconference: States interested in participating in a teleconference regarding this grant solicitation should check the Ticket to Work Web site listed below for the date and time.

Deadline for Grant Submission: Grant applications must be submitted by July 15, 2003 to be considered under the 2004 annual funding cycle. Applications for these grants are not subject to review under Executive Order 12372—Intergovernmental Review by Federal Agencies (45 CFR part 100).

ADDRESSES: Application Materials: Standard application forms and related instructions are available from the Web site, www.cms.hhs.gov/researchers/priorities/grants.asp or from Judith Norris, Centers for Medicare & Medicaid Services, Office of Internal Customer Support, Acquisition and Grants Group, C2-21-15 Central Building, 7500 Security Boulevard, Baltimore, MD 21244-1850, (410) 786-5130, e-mail: Jnorris1@cms.hhs.gov. Application materials must be formally submitted to Judith Norris.

Please note: State agencies are only required to submit an original application and two copies.

Web site: You may access up-to-date information about the Medicaid Infrastructure Grants and obtain information from the full grant solicitation grant at: http://www.cms.hhs.gov/twwiia.

FOR FURTHER INFORMATION CONTACT: Questions about the grants may be directed to: Joe Razes, TWWIIA Program Manager, Disabled and Elderly Health Programs Group, Center for Medicaid and State Operations, Centers for Medicare & Medicaid Services, Room S2-14-26, 7500 Security Boulevard, Baltimore, MD 21244-1850, (410) 786-6126, e-mail: Jrazes@cms.hhs.gov.

SUPPLEMENTARY INFORMATION: This notice is the fourth such notice announcing the availability of funds for Medicaid infrastructure grants authorized by the Ticket to Work and Work Incentives Improvement Act. A total of 38 States currently have been awarded Medicaid infrastructure grants under the Ticket to Work legislation that provides Federal grant funding for 11 years through 2011. This notice is consistent with the three previous notices in soliciting States to apply for grants that will expand services and supports for workers with disabling conditions. States that wish to apply for these grants and desire further detailed information, such as application requirements, review procedures, an explanation of a timely submission, necessary forms, and other relevant information, should refer to the above listed Web sites.

Approval for Collection of Information: The collection of information requested in the application for grants funding has been approved by the Office of Management and Budget under the approval number 0938-0811. The current approval expires on November 30, 2003.

Authority: Section 203 of the Ticket to Work and Work Incentives Improvement Act of 1999, Pub. L. 106-170. (Catalog of Federal Domestic Assistance Program No. 93.768, Centers for Medicare and Medicaid Services Research, Demonstration, and Evaluations)

Dated: December 23, 2002.
Thomas A. Scully,
Administrator, Centers for Medicare & Medicaid Services.

[FR Doc. 03-4733 Filed 2-27-03; 8:45am]

BILLING CODE: 4120-01-P